DEPARTMENT OF TRANSPORTATION

Surface Transportation Board

[STB Finance Docket No. 34855]

Iowa Interstate Railroad, Ltd.—Acquisition Exemption—Great Western Railway Company of Iowa, L.L.C.

AGENCY: Surface Transportation Board.

ACTION: Notice of exemption.

SUMMARY: The Board grants an exemption, under 49 U.S.C. 10502, from the prior approval requirements of 49 U.S.C. 10902 for Iowa Interstate Railroad, Ltd. (IAIS), a Class II rail carrier, to acquire by purchase a rail yard owned by Great Western Railway Company of Iowa, L.L.C., subject to employee protective conditions. The rail yard consists of approximately 55 acres and 15 tracks, and extends from milepost 0 at 18th Street to milepost 1.6, at Council Bluffs, IA.

DATES: The exemption will be effective on July 1, 2006. Petitions to stay must be filed by June 16, 2006. Petitions to reopen must be filed by June 26, 2006.

ADDRESSES: An original and 10 copies of all pleadings, referring to STB Finance Docket No. 34855, must be filed with the Surface Transportation Board, 1925 K Street, NW., Washington, DC 20423-0001. In addition, one copy of all pleadings must be served on IAIS's representative, Edward J. Krug, Krug Law Firm, P.L.C., 401 First Street, SE., Suite 330, P.O. Box 186, Cedar Rapids, IA 52406-0186.

FOR FURTHER INFORMATION CONTACT: Melissa Ziembicki, (202) 565-1604. [Assistance for the hearing impaired is available through the Federal Information Relay Service (FIRS) at 1-800-877-8339.]

SUPPLEMENTARY INFORMATION: Additional information is contained in the Board's decision. To purchase a copy of the full decision, write to, e-mail, or call: ASAP Document Solutions, 9332 Annapolis Rd., Suite 103, Lanham, MD 20706; e-mail: asapdc@verizon.net; telephone: (202) 306-4004. [Assistance for the hearing impaired is available through FIRS at 1-800-877-8339.]

Board decisions and notices are available on our Web site at http://www.stb.dot.gov.

Decided: May 25, 2006.
By the Board, Chairman Buttrey and Vice Chairman Mulvey.
Vernon A. Williams,
Secretary.

[FR Doc. E6-8508 Filed 5-31-06; 8:45 am]

BILLING CODE 4915-01-P